DEPARTMENT OF AGRICULTURE

Forest Service

Lower Orogrande Project, Clearwater National Forest, Clearwater County, ID

AGENCY: Forest Service, USDA.

ACTION: Notice of intent to prepare an environmental impact statement.

SUMMARY: The USDA, Forest Service, will prepare an Environmental Impact Statement (EIS) to disclose the environmental effects of improvements on watershed, vegetation, and wildlife habitat in the Lower Orogrande project area on the North Fork Ranger District of the Clearwater National Forest. The Lower Orogrande project area is located entirely within the Orogrande Creek watershed, which contains the Tamarack Creek, Jazz Creek, and Pine Creek sub watersheds as part of the headwaters of the North Fork Clearwater River Subbasin.

DATES: Comments on this project must be received, in writing, within 30 days following the publication of this notice in the Federal Register. A 45-day public comment period will follow the release of the draft environmental impact statement that is expected in October 2010. The final environmental impact statement is expected in May 2011.

ADDRESSES: Written comments and suggestions concerning the scope of this project should be sent to Douglas Gober (dgober@fs.fed.us), District Ranger, North Fork Ranger District, 12730 Highway 12, Orofino, ID 83844.

FOR FURTHER INFORMATION CONTACT: George Harbaugh (gharbaugh@fs.fed.us), Project Leader, Lochsa Ranger District. Phone: (208) 935-4260.

SUPPLEMENTARY INFORMATION: The Lower Orogrande project area contains approximately 21,560 acres of National Forest lands. The legal location is mostly in portions of Townships 37 and 38 North and Ranges 7 and 8 East, Boise Meridian, Clearwater County, Idaho. The proposed actions would occur on National Forest lands and are all outside the boundaries of any inventoried roadless area or any areas considered for inclusion to the National Wilderness System as recommended by the Clearwater National Forest Plan or by any past of present legislative wilderness proposals.

Purpose and Need for Action is to: (1) Reduce stream sediment (i.e. reduce road densities and control erosion sources on roads to be retained, especially in RHCAs) and remove barriers to fish passage and other aquatic organisms to allow for unrestricted access to historic habitats; (2) restore white pine and larch (regeneration harvest), improve stand vigor (commercial thinning), and start the trend to improve species diversity and balance vegetative successional stages across the landscape to create stand conditions that are resilient and allow for rapid recovery after disturbances; and (3) promote a trend in the balance of successional stages toward the historical range and promote a trend towards increased wildlife security.

The Proposed Action would address improvements to the area's watershed, vegetation, and wildlife habitat. Watershed improvements include: (1) Decommissioning 6 miles of system roads and 65 miles of non-system roads; (2) improving and/or reconstructing up to 5 miles of existing roads to fix erosion problems; and (3) replacing 40 undersized culverts.

Up to 30 miles of existing roads would need improvement or reconstruction, up to 60 miles of existing roads would need reconditioning; all for logging access. No new road construction is anticipated at this time. Opportunities for precommercial thinning will be identified later in the process.

Improvements to wildlife habitat would include (1) conducting vegetation treatments to promote better successional stage balance. This action would correspond directly to the proposed commercial thinning and regeneration harvest activities; (2) restricting road access (closed to all vehicles year round) on 14.5 miles of existing roads to improve elk security. Proposed access restrictions are a result of a Road and Trail Analysis being completed for this project; and (3) designating additional stands for management as mature and old growth forest habitats.

Possible Alternatives the Forest Service will analyze include a “no action” alternative in which none of the proposed activities would be implemented. Additional alternatives that meet the project purpose and need may be considered in response to issues raised by the public during scoping.

The Responsible Official is the Forest Supervisor of the Clearwater National Forest, 12730 Highway 12, Orofino, ID 83544. The Responsible Official will decide if the proposed project will be implemented and will document the decision and reasons for the decision in a Record of Decision. That decision will be subject to Forest Service Appeal Regulations. The responsibility for preparing the DEIS and FEIS has been delegated to Douglas Gober, District Ranger, North Fork Ranger District, 12730 Highway 12, Orofino, ID 83844.

The Scoping Process for the EIS is being intiated with this notice, and written comments regarding the analysis should be received within 30 days following the publication of this notice in the Federal Register. Additional scoping will follow the release of the DEIS, expected in October 2010.

Preliminary Issues identified that could be affected by proposed activities include: Air quality, economic feasibility, fish habitat, heritage resources, old growth habitat, soil productivity, spread of noxious weeds, threatened/endangered/sensitive and management indicator species of wildlife and plants, tribal treaty rights, water quality, and wildlife habitat.

Early Notice of Importance of Public Participation in Subsequent Environmental Review: A draft environmental impact statement will be prepared for comment. The comment period on the draft environmental impact statement will be 45 days from the date the Clearwater National Forest publishes a legal notice in the Lewiston Morning Tribune (Lewiston, Idaho), the Forest's paper of record. A notice of availability will also be published in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: January 4, 2010.
Rick Brazell,
Forest Supervisor.

[FR Doc. 2010-109 Filed 1-7-10; 8:45 am]

BILLING CODE 3410-11-P